DEPARTMENT OF TRANSPORTATION

Federal Highway Administration

Environmental Impact Statement; Bronx County, NY

AGENCY: Federal Highway Administration (FHWA), DOT.

ACTION: Notice of intent.

SUMMARY: The FHWA is issuing this notice to advise the public that an Environmental Impact Statement (EIS) will be prepared for a proposed construction project known as the Hunts Point Interstate Access Improvement Project, in Bronx County, New York.

FOR FURTHER INFORMATION CONTACT: Harold Fink, Deputy Chief Engineer, New York State Department of Transportation, Hunters Point Plaza 47-40 21st Street, Long Island City, New York 11101, Telephone: (718) 482-4683; or Peter W. Osborn, Division Administrator, Federal Highway Administration, New York Division, Leo W. O'Brien Federal Building, 7th Floor, Clinton Avenue and North Pearl Street, Albany, New York 12207, Telephone: (518) 431-4127.

SUPPLEMENTARY INFORMATION: The FHWA, in cooperation with the New York State Department of Transportation (NYSDOT), will prepare an Environmental Impact Statement (EIS) in accordance with the National Environmental Policy Act (NEPA) on a proposal to improve access between the Hunts Point Peninsula and the Sheridan and Bruckner Expressways (I-895 and I-278).

The Hunts Point Peninsula is located in the South Bronx, New York, and is home to the Hunts Point Food Distribution Center, the largest food distribution facility in the nation. The Hunts Point Peninsula is also home to many industrial and commercial properties outside of the food distribution center. There is also a residential area in the northeastern portion of the peninsula. To access the food distribution center, vehicles must exit the interstate highway network and use local streets. The needs for the project are to improve access to and from the Hunts Point Peninsula and the Hunts Point Food Distribution Center/commercial establishments, to address the existing non-standard geometric features of the Bruckner/Sheridan Interchange to improve operations, and to address infrastructure deficiencies on the Bruckner Expressway viaduct and ramps and truss bridge carrying westbound Bruckner Expressway and Bruckner Boulevard over Amtrak.

The purpose of the project is to provide improved access between the Hunts Point Peninsula and the Sheridan and Bruckner Expressways for automobiles and trucks traveling to and from the commercial businesses located on the peninsula. In addition, the project will address structural and operational deficiencies related to the existing infrastructure within the established project limits.

A reasonable range of alternatives is currently being developed and will be refined during the NEPA scoping process in consideration of agency and public comments received.

Letters describing the proposed action and soliciting comments will be sent to Cooperating and Participating Agencies. Public and agency outreach will include a formal public scoping meeting, a public hearing, and meetings with Cooperating and Participating Agencies. Public notice will be given of the date, time, and location of the scoping meeting and hearing. To assist in determining the scope of issues to be addressed and identifying the significant issues related to the proposed action, the general public will have the opportunity to submit written comments at the scoping meeting and during a scoping comment period. The draft EIS will be available for public and agency review and comment prior to the public hearing.

Comments or questions concerning this proposed action should be directed to the NYSDOT and FHWA at the addresses provided above.

Issued on: May 8, 2017.
Peter W. Osborn,
Division Administrator, Albany, New York.

[FR Doc. 2017-10260 Filed 5-19-17; 8:45 am]

BILLING CODE 4910-22-P